DEPARTMENT OF DEFENSE

Department of the Air Force

[Docket ID USAF-2009-0015]

Privacy Act of 1974; System of Records

AGENCY: Department of the Air Force.

ACTION: Notice to add a system of records.

SUMMARY: The Department of the Air Force proposes to add a system of records to its inventory of record systems subject to the Privacy Act of 1974 (5 U.S.C. 552a), as amended.

DATES: The proposed action will be effective on March 12, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on January 22, 2009 to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996, (February 20, 1996, 61 FR 6427).

Dated: February 4, 2009.
Morgan E. Frazier,
Alternate OSD Federal Register Liaison Officer, Department of Defense.

F036 AF AETC B

System name:

Graduate Training Integration Management Records.

System location:

The Air Force headquarters database is located at HQ AETC/A3IS, Hangar 6, Suite 1, 1150 5th Street East, Randolph Air Force Base, TX 78150-4404.

The site training databases are located at:

325th Operational Support Squadron, Bldg. 164, Room 105, 841 Florida Ave, Tyndall Air Force Base, FL 32403-5552.

56th Operations Support Squadron, Room 122, 7324 N. Homer Dr., Luke AFB, AZ 85309-1661.

Doss Aviation, One William White Blvd., Room 120, Pueblo, CO 81001-1120.

23 FT Squadron, 58 Operations Group, Bldg. 6621, Room 1, Andrews Ave., Ft Rucker, AL 36362-3636.

Categories of individuals covered by the system:

All students and cadre involved in the flight training operations to include: active duty Air Force, Navy and National Guard personnel and Reserves, Department of Defense (DoD) civilians, contractors and foreign national military.

Categories of records in the system:

Name, grade, Social Security Number (SSN), address and telephone number, source of commission, education information to include university, dates of attendance, graduation degree, major and date and past training unit of assignment. Complete record of flying training including class number, section number, flying and academic courses completed; complete record of evaluations including grades on each phase of flight evaluations and overall flight evaluation performance in each category of training, flying hours; date graduated or eliminated with reasons for elimination and Training Review Board proceedings.

Authority for maintenance of the system:

10 U.S.C. 8013, Secretary of the Air Force; AETCI 36-2205, Formal Aircrew Training administration and management; AETCI 36-2220, Academic Training; AETCI 36-2223, Flying Training Student Information Management and E.O. 9397 (SSN).

Purpose:

Manages all aspects of Air Force graduate flight training. Provides scheduling of all resources to include students, instructors, classrooms, classroom equipment and resource files, aircrew training (simulator) devices, aircraft and airspace. Monitors student performance by source of entry, education level and minority status. Maintains data, tracks and provides performance evaluation and deficiency tracking of students; and training and qualifications of instructor pilots and other training cadre. Maintains training information and qualifications of graduates for follow-on training to Air National Guard/Air Force Reserve and other Air Force/Navy training units. Manages syllabi and evaluates training course content. Provides data for and documents proceedings in the event of Training Review Board actions.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows: the DoD ‘Blanket Routine Uses’ published at the beginning of the Air Force's compilation of record system notices apply to this system.

Policies and practices for storing, retrieving, accessing, retaining, and disposing of records in the system:

Storage:

Paper records and electronic storage media.

Retrievability:

By name and Social Security Number (SSN).

Safeguards:

Computer databases are located in locked servers in locked rooms in flying training classroom/laboratory buildings on Air Force installations. All training facilities with system-accessible workstations are controlled during duty hours and secured after duty hours. Access to record, (database) data, by users (including students, training cadre, flight training managers, and system administrators) is controlled by Common Access Card (CAC) identification. Authorized access to specific data is controlled in accordance with user roles and permissions.

Retention and disposal:

Air Education and Training Command (AETC) archive policy training records to include GTIMS computer databases are retained as active at least two years. Archiving records from the units' servers that are more than two years old will begin when the data is complete and correct, i.e. final Merit Assignment Selection System (MASS) is run and students are graduated and correctly dispositioned. HQ AETC/A3IS will maintain a complete GTIMS database indefinitely.

GTIMS hardcopy reports such as student grade book and other paper reports generated for instructor, flight commander, etc., are destroyed one year after completion of training.

Training Review Board records are retained for one year. Hardcopy records are destroyed by tearing into pieces, shredding, pulping, macerating or burning.

System manager and address:

Department of the Air Force, Deputy Chief of Staff Operations, Headquarters Air Education and Training Command, 1 F Street, suite 2, Randolph Air Force Base, TX 78150-4325.

Notification procedure:

Individuals seeking to determine whether information about themselves is contained in this system should address written inquiries to the Department of the Air Force, Deputy Chief of Staff Operations, Headquarters Air Education and Training Command, 1 F Street, suite 2, Randolph Air Force Base, TX 78150-5000.

Individuals should provide full name, Social Security Number (SSN), office or organization where currently assigned, if applicable, and current address and telephone number. The requester's signature should be certified/verified by a notary public as below.

If an unsworn declaration is executed outside the United States, it shall read “I declare (or certify, verify, or state) under penalty of perjury under the laws of the United States of America that the foregoing is true and correct. Executed on (date). (Signature).”

If an unsworn declaration is executed within the United States, its territories, possessions, or commonwealths, it shall read “I declare (or certify, verify, or state) under penalty of perjury that the foregoing is true and correct. Executed on (date). (Signature).”

Record access procedures:

Individuals seeking access to information about themselves contained in this system of records should address written inquiries to or visit the Department of the Air Force, Deputy Chief of Staff Operations, Headquarters Air Education and Training Command, 1 F Street, suite 2, Randolph Air Force Base, TX 78150-5000.

Individuals should provide full name, Social Security Number (SSN), office or organization where currently assigned, if applicable, and current address and telephone number. The requester's signature should be certified/verified by a notary as below.

If an unsworn declaration is executed outside the United States, it shall read “I declare (or certify, verify, or state) under penalty of perjury under the laws of the United States of America that the foregoing is true and correct. Executed on (date). (Signature).”

If an unsworn declaration is executed within the United States, its territories, possessions, or commonwealths, it shall read “I declare (or certify, verify, or state) under penalty of perjury that the foregoing is true and correct. Executed on (date). (Signature).”

Contesting records procedures:

The Air Force rules for accessing records, and for contesting contents and appealing initial agency determinations are published in Air Force Instruction 33-332; 32 CFR part 806b; or may be obtained from the system manager.

Record source categories:

From the individual; students' grades rendered by Computer Aided Instruction (CAI) tests and instructor grades from observed training events.

Exemptions claimed for the system:

None.

[FR Doc. E9-2763 Filed 2-9-09; 8:45 am]

BILLING CODE 5001-06-P